DEPARTMENT OF JUSTICE

Notice of Lodging of Settlement Agreement Under the Comprehensive Environmental Response, Compensation, and Liability Act

Notice is hereby given that on February 9, 2012, a proposed Settlement Agreement (the “Agreement”) in In re: Wood Treaters, LLC, Bankruptcy Case No. 3:09-bk-01895-PMG, was lodged with the United States Bankruptcy Court for the Middle District of Florida.

In this Chapter 7 bankruptcy case, the United States filed a claim for administrative expenses seeking payment under Section 107(a)(1) and (2) of the Comprehensive Environmental Response, Compensation, and Liability Act (“CERCLA”), 42 U.S.C. 9607(a)(1) and (2), of past and future costs incurred by the U.S. Environmental Protection Agency (“EPA”) for environmental response activities related to the releases and threatened releases of hazardous substances from the Fairfax Street Wood Treaters Site, located at 2610 Fairfax Street in Jacksonville, Duvall County, Florida. The Site was formerly operated by Debtor Wood Treaters, LLC. Under the Agreement between the United States, on behalf of EPA, and the Chapter 7 Trustee, EPA covenants not to take administrative or civil action against the Debtor or Trustee pursuant to CERCLA Sections 106 or 107, 42 U.S.C. 9606 or 9607, subject to certain reservations of rights. In exchange, the United States, on behalf of EPA, shall have an allowed priority claim for administrative expenses of $4,352,672. Further, the Trustee shall pay the United States $70,000; pay the United States 25% of certain net proceeds retained from the recovery of pre-Chapter 7 conversion accounts receivable and from recovery claims under 11 U.S.C. 549; and assign to EPA all rights to insurance claims proceeds that the Trustee may collect on any insurance policy relating to environmental liability for the Site. To the extent that the aforementioned sums are insufficient to satisfy EPA's allowed priority claim, the unpaid balance shall be converted to and allowed as a general nonpriority unsecured claim.

The Department of Justice will receive for a period of thirty (30) days from the date of this publication comments relating to the Agreement. Comments should be addressed to the Assistant Attorney General, Environment and Natural Resources Division, and either emailed to pubcomment-ees.enrd@usdoj.gov or mailed to P.O. Box 7611, U.S. Department of Justice, Washington, DC 20044-7611, and should refer to In re: Wood Treaters, LLC, D.J. Ref. 90-11-3-10194.

During the public comment period, the Agreement may also be examined on the following Department of Justice Web site, at http://www.usdoj.gov/enrd/Consent_Decrees.html. A copy of the Agreement may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $5.50 (25 cents per page reproduction cost) payable to the U.S. Treasury or, if requesting by email or fax, forward a check in that amount to the Consent Decree Library at the address given above.

Henry Friedman,
Assistant Chief, Environmental Enforcement Section, Environment and Natural Resources Division.

[FR Doc. 2012-4350 Filed 2-23-12; 8:45 am]

BILLING CODE 4410-15-P